NUCLEAR REGULATORY COMMISSION

[Docket No. 72-26; NRC-2012-0312]

Pacific Gas and Electric Company; Diablo Canyon Independent Spent Fuel Storage Installation

AGENCY: Nuclear Regulatory Commission.

ACTION: License amendment; issuance.

SUMMARY: The U.S. Nuclear Regulatory Commission (NRC) is amending Materials License No. SNM-2511 for the Diablo Canyon (DC) independent spent fuel storage installation (ISFSI). Amendment No. 3 provides the following: (1) Changes the maximum allowable decay heat per storage location; (2) adds a new helium backfill pressure range for multipurpose canisters (MPCs) with heat loads less than or equal to 28.74kW, (3) clarifies that supplemental cooling was only applicable for unloading of high burnup fuel loaded in 2012 under the provisions of License Amendment No. 2, and (4) provides a maximum average yearly temperature of 65 °F as the basis for a loaded overpack in the cask transfer facility, or storage on the ISFSI pad, and a maximum temperature of 100 °F, averaged over a 3-day period, as the basis for transfer activities in the transfer cask to support revised thermal analyses.

ADDRESSES: Please refer to Docket ID: NRC-2012-0312 when contacting the NRC about the availability of information regarding this document. You may access publicly-available information related to this document using any of the following methods:

• Federal Rulemaking Web site: Go to http://www.regulations.gov and search for Docket ID: NRC-2012-0312. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: John Goshen, Office of Nuclear Material Safety and Safeguards, telephone: 301-287-9250, email: John.Goshen@nrc.gov; U.S. Nuclear Regulatory Commission, Washington, DC 20555-0001.

SUPPLEMENTARY INFORMATION:

I. Introduction

By letter dated July 31, 2012, as supplemented March 14, May 23, and September 5, 2013, PG&E submitted license amendment request (LAR) 12-003 (ADAMS Accession No. ML122270603) to the NRC to amend Materials License No. SNM-2511 for the DC ISFSI in accordance with 10 CFR Part 72. PG&E's application requested that the ISFSI Technical Specifications (TS) be revised as follows:

1. Tables 2.1-7, 2.1-8, and 2.1-9 in TS 2.0, “Approved Contents,” are revised allowing up to a 28.74kW heat load for uniform loading and 25.572kW heat load for regionalized loading. This changes the maximum allowable decay heat per storage location, in watts, determined from Table 2.1-7 or 2.1-9 to be consistent with this proposed license amendment request. Table 2.1-8 is revised to delete the note that limits Zirlo clad fuel to a burnup of 45,000 MWD/MTU and replace the existing Note 3 with a note that refers to TS 2.3, “Alternate MPC-32 Fuel Selection Criteria.”

2. TS 2.3, “Alternate MPC-32 Fuel Selection Criteria,” is revised to add reference to Table 2.1-9 as regionalized loading of high burn-up fuel (HBF).

3. TS 3.1.1, “Multi-Purpose Canister (MPC),” Surveillance Requirement (SR) 3.1.1.2 is revised to add a new helium backfill pressure range for MPCs with heat loads less than or equal to 28.74kW.

4. TS 3.1.4, “Supplemental Cooling System,” Applicability is changed to only be applicable for unloading of high burnup fuel loaded in 2012 under the provisions of License Amendment No. 2.

5. Addition of TS 4.1.3 Design Features Important to Thermal Analysis-

a. A maximum average yearly temperature of 65 °F is the basis for a loaded overpack in the cask transfer facility, or storage on the ISFSI pad.

b. A maximum temperature of 100 °F, averaged over a 3-day period, is the basis for transfer activities in the transfer cask.

In accordance with 10 CFR 72.16, a Notice of Docketing and Opportunity to Request a hearing was published in the Federal Register on January 2, 2013 (78 FR 123). On February 11, 2014, the NRC approved and issued Amendment No.3 to Materials License No. SNM-2511 (ADAMS Accession No. ML14043A517), held by PG&E for the receipt, possession, transfer, and storage of spent fuel at the DC ISFSI. Amendment No. 3 was effective as of the date of issuance. Pursuant to 10 CFR 72.46(d), the NRC is providing notice of the action taken.

Amendment No. 3 complies with the standards and requirements of the Atomic Energy Act of 1954, as amended (the Act), and the NRC's rules and regulations. As required by the Act and the NRC's rules and regulations in 10 CFR Chapter I, the NRC has made appropriate findings, which are set forth in the Amendment No. 3 safety evaluation report (SER) (ADAMS Accession No. ML14049A476). Also as described in the SER, the NRC determined that issuance of Amendment No. 3 meets the criteria specified in 10 CFR 51.22(c)(11) for a categorical exclusion. Thus, the preparation of an environmental assessment or an environmental impact statement is not required. On February 11, 2014, the California Energy Commission was informed of the NRC's action. The state had no comments.

II. Further information

The NRC has prepared an SER that documents the staff's review and evaluation of the amendment. In accordance with 10 CFR 2.390 of NRC's “Rules of Practice,” final NRC records and documents related to this action, including the application for amendment and supporting documentation, and the SER, are available electronically at the NRC's Electronic Reading Room, at: http://www.nrc.gov/reading-rm/adams.html. From this site, you can access NRC's ADAMS, which provides text and image files of NRC's public documents. The ADAMS Accession Numbers for the applicable documents are:

Document | Date | ADAMS Accession No.
License Amendment Request | July 31, 2012 | ML122270603
Response to First Request for Additional Information | March 14, 2013 | ML130860130
Response to Second Request for Additional Information | May 23, 2013 | ML13175A184
Supplement to License Amendment Request | September 5, 2013 | ML13259A274
License Amendment No. 3 Issuance Package | February 11, 2014 | ML14043A517
SER | February 11, 2014 | ML14049A476

Dated at Rockville, Maryland, this 19th day of February, 2014.
For the Nuclear Regulatory Commission.
Michele M. Sampson,
Chief, Licensing Branch, Division of Spent Fuel Storage and Transportation, Office of Nuclear Material Safety and Safeguards.

[FR Doc. 2014-04597 Filed 2-28-14; 8:45 am]

BILLING CODE 7590-01-P